DEPARTMENT OF COMMERCE

National Oceanic and Atmospheric Administration

RIN 0648-XA662

Stock Assessment Reports for Dusky, Sandbar, and Blacknose Sharks in the U.S. Atlantic and Gulf of Mexico

AGENCY: National Marine Fisheries Service (NMFS), National Oceanic and Atmospheric Administration (NOAA), Commerce.

ACTION: Notice of availability.

SUMMARY: NMFS announces the availability of final stock assessment reports for dusky, sandbar, and blacknose sharks in the Atlantic and Gulf of Mexico. The reports summarize the consensus of an independent Review Panel, describe methodologies used to determine stock statuses, and detail relevant working documents, including copies of Data and Assessment workshop reports.

ADDRESSES: Electronic copies of the stock assessments and all supporting documents may also be obtained on the internet at: http://www.sefsc.noaa.gov/sedar/. A limited number of hard copies are available. Requests for these hard copies of the final stock assessment reports for dusky, sandbar, and blacknose sharks should be sent to Peter Cooper, Highly Migratory Species Management Division (F/SF1), National Marine Fisheries Service (NMFS), 1315 East-West Highway, Silver Spring, MD 20910, or may be sent via facsimile (fax) to (301) 713-1917 or phone (301) 427-8503.

FOR FURTHER INFORMATION CONTACT: For information on the stock assessments, contact Peter Cooper by phone at (301) 427-8503 or by fax at (301) 713-1917.

SUPPLEMENTARY INFORMATION: The assessments for dusky, sandbar, and blacknose sharks were conducted as part of the Southeast Data, Assessment, and Review (SEDAR) process to ensure the best available data and techniques were used. SEDAR is a cooperative process initiated in 2002 to improve the quality and reliability of fishery stock assessments in the South Atlantic, Gulf of Mexico, and U.S. Caribbean. The SEDAR process emphasizes constituent and stakeholder participation in assessment development, transparency in the assessment process, and a rigorous and independent scientific review of completed stock assessments.

SEDAR 21, which conducted the stock assessments for dusky, sandbar, and blacknose sharks, was organized around a series of face-to-face workshops and webinars. The first Data Workshop was held in Charleston, SC, June 21-25, 2010 (May 4, 2010, 75 FR 23676), and participants evaluated all available data and selected appropriate sources for providing information on life history characteristics, catch statistics, discard estimates, length and age composition, and fishery dependent and fishery independent measures of stock abundance.

The Assessment Process was conducted via a series of webinars between September 2010 and January 2011 (August 26, 2010, 75 FR 52510; October 12, 2010, 75 FR 62506; November 17, 2010, 75 FR 70216; December 16, 2010, 75 FR 78679). During the assessment process, the assessment models were developed and population parameters were estimated using the information provided from the Data Workshop.

The Review Workshop was the final workshop, in which a panel of independent experts met in Annapolis, MD, April 18-22, 2011 (March 15, 2011, 76 FR 13985), and reviewed the data and assessments developed during the Data Workshop and Assessment Webinars. All workshops and webinars were open to the public. More information on the SEDAR process can be found at http://www.sefsc.noaa.gov/sedar/. Additionally, the final stock assessment reports and all supporting documents can be found at that Web site under the heading “SEDAR 21—HMS Sandbar, Dusky, and Blacknose Sharks.”

Sandbar and dusky sharks were each assessed as one stock whereas, for the first time, blacknose sharks were assessed as two separate stocks: an Atlantic and Gulf of Mexico stock. The stock assessments provide information on the status of the stocks and project their future abundance under a variety of catch levels in the U.S. Atlantic Ocean, Gulf of Mexico, and Caribbean Sea. The 2010 assessments include updated catch estimates, new biological data, and a number of fishery-independent and fishery-dependent catch rate series for each species.

The Review Panel for the Review Workshop of SEDAR 21 found that the data and methods used were appropriate and the best available for the dusky, sandbar, and Atlantic blacknose shark assessments. However, because the assessment model for the Gulf of Mexico blacknose stock was unable to fit the apparent trends in some of the abundance indices, and because there was a fundamental lack of fit of the model to some of the input data, the Review Panel did not accept the stock assessment for the Gulf of Mexico blacknose stock. Based on these assessments, NMFS will be making stock status determinations in an upcoming Federal Register notice for four separate stocks: (1) Dusky Sharks, (2) sandbar sharks, (3) Gulf of Mexico blacknose sharks, and (4) Atlantic blacknose sharks. NMFS is also considering amending the 2006 Consolidated Highly Migratory Species Fishery Management Plan, as necessary.

Authority: 16 U.S.C. 971 et seq., and 1801 et seq.

Dated: September 28, 2011.
Steven Thur,
Acting Director, Office of Sustainable Fisheries, National Marine Fisheries Service.

[FR Doc. 2011-25429 Filed 9-30-11; 8:45 am]

BILLING CODE 3510-22-P